DEPARTMENT OF AGRICULTURE

Animal and Plant Health Inspection Service

[Docket No. 01-096-2]

Availability of an Environmental Assessment and Finding of No Significant Impact

AGENCY: Animal and Plant Health Inspection Service, USDA.

ACTION: Notice of availability.

SUMMARY: We are advising the public that an environmental assessment and finding of no significant impact have been prepared by the Animal and Plant Health Inspection Service relative to the control of Melaleuca quinquenervia in Florida. The environmental assessment considers the effects of, and alternatives to, the release of two nonindigenous organisms, Boreioglycaspis melaleucae and Lophryrotoma zonalis, into the environment for use as biological control agents to reduce the severity of melaleuca infestations. The environmental assessment provides a basis for our conclusion that the issuance of a permit for the field release of Boreioglycaspis melaleucae into the environment will not have a significant impact on the quality of the human environment. A decision has been made not to issue a permit for the field release Lophryrotoma zonalis at this time until more data is obtained on the potential for adverse effects to humans or domestic animals. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Dr. Tracy Horner, Entomologist, Permits and Risk Assessment, PPQ, APHIS, 4700 River Road Unit 133, Riverdale, MD 20737-1228; (301) 734-5213.

SUPPLEMENTARY INFORMATION: As part of an integrated control project to reduce the severity of Melaleuca quinquenervia (Cav.) S.T. Blake (Myrtales: Myrtaceae) infestations in Florida, the Animal and Plant Health Inspection Service (APHIS) has evaluated the release of two nonindigenous organisms, Boreioglycaspis melaleucae Moore (Hemiptera: Psyllidae) and Lophyrotoma zonalis Rohwer (Hymenoptera: Pergidae), in areas affected by melaleuca.

Melaleuca, a broad-leaf paper bark tree native to Australia, was originally introduced in Florida during the early 1900's as an ornamental and was later planted along dikes and levees for erosion control and to convert wetlands into productive forest lands. Over the last four decades, it has spread throughout southern Florida, displacing native plant and animal species, and threatening the stability of the Florida Everglades ecosystem. The purpose of the control project is to reduce the severity of the infestations of melaleuca throughout the affected areas.

APHIS' current melaleuca control project encompasses the areas known to be infested in central and south Florida and involves an integrated control approach sensitive to site-specific conditions, which may include a combination of physical, biological, and/or chemical controls.

In response to permit applications the Agency received for the release of B. melaleucae, a psyllid native to Australia, and L. zonalis, a sawfly also native to Australia, APHIS investigated the use of these biological control agents to control melaleuca in the affected areas. Presently, there is only one biological control agent, a nonindigenous weevil (Oxyops vitiosa), used to suppress melaleuca.

On December 14, 2001, we published in the Federal Register (66 FR 64797-64798, Docket No. 01-096-1) a notice in which we announced the availability, for public review and comment, of an environmental assessment entitled “Field Release of Two Biological Control Agents Boreioglycaspis melaleucae Moore (Hemiptera: Psyllidae) and Lophyrotoma zonalis Rohwer (Hymenoptera: Pergidae) for the Control of Melaleuca quinquenervia (Cav.) S.T. Blake (Myrtales: Myrtaceae) in south Florida” (September 2001). This environmental assessment considers the effects of, and alternatives to, releasing B. melaleucae and L. zonalis into the environment as biological control agents to reduce the severity of melaleuca infestations in Florida. We solicited comments on the environmental assessment for 30 days ending on January 14, 2002. We received no comments by that date.

In this document, we are advising the public of APHIS' record of decision and finding of no significant impact regarding the issuance of a permit for the field release of B. Melaleucaeq, without conditions, for use as a biological control agent to reduce the severity of melaleuca infestations. A decision has been made not to issue a permit for the field release of L. zonalis at this time until more data is obtained on the potential for adverse effects to humans or domestic animals. When more data clarifying the potential of L. zonalis becomes available, we will reevaluate our decision regarding L. zonalis with the appropriate environmental documentation.

The environmental assessment and finding of no significant impact may be viewed on the Internet at http://www.aphis.usda.gov/ppq/ by accessing “Document/Forms Retrieval System,” then “Permits-Pests,” and then document number 0030. Copies of the documents may also be obtained by calling the Plant Protection and Quarantine Automated Fax System at (301) 734-4327 or (301) 734-3560; please enter document number 0030 when prompted. You may also obtain copies of the environmental assessment and finding of no significant impact by calling or writing to the person listed under FOR FURTHER INFORMATION CONTACT. Please refer to the title of the environmental assessment and finding of no significant impact when requesting copies. The environmental assessment and finding of no significant impact are also available for review in our reading room (information on the location and hours of the reading room is listed under the heading ADDRESSES at the beginning of this notice).

The environmental assessment has been prepared in accordance with: (1) The National Environmental Policy Act of 1969 (NEPA), as amended (42 U.S.C. 4321 et seq.), regulations of the Council on Environmental Quality for implementing the procedural provisions of NEPA (40 CFR parts 1500-1508), (3) USDA regulations implementing NEPA (7 CFR part 1), and (4) APHIS' NEPA Implementing Procedures (7 CFR part 372).

Done in Washington, DC, this 10th day of May, 2002 .
Peter Fernandez,
Acting Administrator, Animal and Plant Health Inspection Service.

[FR Doc. 02-12248 Filed 5-15-02; 8:45 am]

BILLING CODE 3410-34-P